DEPARTMENT OF JUSTICE

Notice of Lodging of Proposed Consent Decree Under the Clean Air Act (“CAA”)

On January 29, 2021, the Department of Justice lodged a proposed consent decree with the United States District Court for the District of Utah in the lawsuit entitled United States v. Stericycle, Inc., Civil Action No. 1:21-cv-00012-JNP.

The United States filed this lawsuit under the Clean Air Act alleging violations of NOx emission limits at Stericycle, Inc.'s medical waste incinerator in North Salt Lake, Utah (an ozone nonattainment area) and other related violations. The proposed consent decree will require Stericycle to pay a $600,000 civil penalty and conduct a supplemental environmental project to replace 15-20 pre-2006 diesel school buses with low emitting models at an estimated cost of $2,000,000.

The publication of this notice opens a period for public comment on the proposed consent decree. Comments should be addressed to the Assistant Attorney General, Environment and Natural Resources Division, and should refer to United States v. Stericycle, Inc., D.J. Ref. No. 90-5-2-1-12057. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $8.50 (25 cents per page reproduction cost) payable to the United States Treasury.

Jeffrey Sands,
Assistant Section Chief, Environmental Enforcement Section, Environment and Natural Resources Division.

[FR Doc. 2021-02353 Filed 2-3-21; 8:45 am]

BILLING CODE 4410-15-P